Title 3—

The President

Proclamation 9266 of April 30, 2015

Asian American and Pacific Islander Heritage Month, 2015

By the President of the United States of America

A Proclamation

The rich heritage of Asian Americans, Native Hawaiians, and Pacific Islanders spans the world and the depths of America's history. Generation after generation, Asian Americans and Pacific Islanders have forged a proud legacy that reflects the spirit of our Nation—a country that values the contributions of everyone who calls America home. During Asian American and Pacific Islander (AAPI) Heritage Month, we honor the perseverance of those who courageously reached for their hopes and dreams in a new land, and we celebrate the important impact the AAPI community has made on our Nation's progress.

From the more than one million immigrants who journeyed across the Pacific and arrived on Angel Island to the Chinese-American laborers who risked their lives to link our coasts by rail, the determination of this vibrant community represents the best of our national character. In each chapter of our country's story—in places like Selma and the grape fields of Delano, during the moments where our Nation's destiny has been decided—AAPIs of all backgrounds have set inspiring examples as leaders and trailblazers, united by a common hope for civil rights, equal treatment, and a better tomorrow for all Americans.

Through times of hardship and in the face of enduring prejudice, these women and men have persisted and forged ahead to help strengthen our Union. Native Hawaiians have fought to protect their treasured traditions, language, and lands. And AAPI patriots have defended the beliefs for which we stand. Seventy years ago, the United States and our allies secured a lasting peace throughout the Asia Pacific region and much of the world—a victory achieved in part by thousands of Filipino Americans who fought valiantly but were denied compensation, and also by Japanese Americans who served this country even as the freedom of their loved ones was denied.

Fifty years ago, the United States opened new doors of opportunity to more Asian and Pacific Islander immigrants through the Immigration and Nationality Act of 1965, ending the arbitrary and outdated policies that unfairly limited the potential of entire regions. This year also marks the 40th anniversary of the end of the Vietnam War, which brought new Vietnamese, Cambodian, Hmong, and Laotian communities to this country. But as we recognize the enormous progress America has made, we must also acknowledge the many struggles AAPIs continue to experience in the face of persistent inequality and bigotry, including barriers to equal access to education, employment, and health care. South Asian Americans—especially those who are Muslim, Hindu, or Sikh—too often face senseless violence and harassment due only to the color of their skin or the tenets of their faith. And to this day, many AAPIs continue to live in the shadows and are separated from their families due to our broken immigration system.

My Administration is committed to addressing these unmet needs and the ugly discrimination that still exists. I was proud to re-establish the White House Initiative on AAPIs soon after I took office, to foster opportunities for increased access to and involvement in Federal programs. As part of that effort, my Administration is expanding its regional network of Federal leaders and hosting community meetings across the country to better understand the needs of the diverse AAPI community. Last year, I announced my intent to take actions that would allow more high-skilled immigrants, graduates, and entrepreneurs to stay and contribute to our economy, and I continue to call on the Congress to pass comprehensive immigration reform. To highlight the tremendous growth of the AAPI community and my Administration's commitment to increasing opportunity for AAPIs everywhere, this month we will host the White House Summit on AAPIs—an unprecedented and historic all-day convening of senior Federal officials and community leaders from across the country.

As we commemorate Asian American and Pacific Islander Heritage Month, we pay tribute to all those in the AAPI community who have striven for a brighter future for the next generation. Together, let us recommit to embracing the diversity that enriches our Nation and to ensuring all our people have an equal chance to succeed in the country we love.

NOW, THEREFORE, I, BARACK OBAMA, President of the United States of America, by virtue of the authority vested in me by the Constitution and the laws of the United States, do hereby proclaim May 2015 as Asian American and Pacific Islander Heritage Month. I call upon all Americans to visit www.WhiteHouse.gov/AAPI to learn more about our efforts on behalf of Asian Americans and Pacific Islanders, and to observe this month with appropriate programs and activities.

IN WITNESS WHEREOF, I have hereunto set my hand this thirtieth day of April, in the year of our Lord two thousand fifteen, and of the Independence of the United States of America the two hundred and thirty-ninth.

[FR Doc. 2015-10895

Filed 5-4-15; 11:15 am]

Billing code 3295-F5